DEPARTMENT OF DEFENSE

Department of the Navy

Notice of Availability of Record of Decision for the Pearl Harbor Naval Shipyard and Intermediate Maintenance Facility Dry Dock and Waterfront Production Facility Environmental Impact Statement

AGENCY: Department of the Navy, Department of Defense (DoD).

ACTION: Notice.

SUMMARY: The United States (U.S.) Department of the Navy (Navy), after carefully weighing the strategic, operational, and environmental consequences of the proposed action, announces its decision to select Alternative 4 (Preferred Alternative) from the Final Environmental Impact Statement for Pearl Harbor Naval Shipyard and Intermediate Maintenance Facility Dry Dock and Waterfront Production Facility at Joint Base Pearl Harbor-Hickam, Oahu, Hawaii (herein, Final EIS). This alternative will support the Pearl Harbor Naval Shipyard and Intermediate Maintenance Facility's (PHNSY & IMF's) mission to repair, maintain, and modernize Navy fast-attack submarines and surface ships. Additionally, this alternative will allow the Navy to provide appropriate dry dock capability to meet submarine depot maintenance mission requirements no later than January 2028, as well as build and operate a properly sized and configured waterfront production facility (WPF) to enable efficient vessel maintenance.

SUPPLEMENTARY INFORMATION: The selected alternative involves construction, operation, and maintenance of a graving dry dock (herein, Dry Dock [DD]5) and an adjacent multiple support concept WPF located east of DD5, as well as auxiliary facilities, a new weight-handling system (crane type), and upgraded utilities. The proposed dry dock will replace existing DD3 and will be given a new dry dock number, DD5. DD5 will be of sufficient size to support maintenance of current and future classes of fast-attack submarines. The WPF will reduce lost operational days by increasing collaboration and efficiency among the workforce. The proposed project's construction-related actions will include dredging, filling, pile driving, installing new temporary and permanent in-water structures, demolishing existing landside structures, and constructing new temporary and permanent landside facilities.

The complete text of the Record of Decision (ROD) is available on the project website at www.PearlHarborDryDockEIS.org, along with the October 2022 Final EIS and supporting documents. Single copies of the ROD are available upon request by contacting: Naval Facilities Engineering System Command Pacific, Attn: PHNSY & IMF DD/WPF EIS Project Manager, 258 Makalapa Drive, Suite 100, Pearl Harbor, HI 96860.

Dated: December 13, 2022.
A.R. Holt,
Lieutenant Commander, Judge Advocate General's Corps, U.S. Navy, Federal Register Liaison Officer.

[FR Doc. 2022-27352 Filed 12-15-22; 8:45 am]

BILLING CODE 3810-FF-P